NUCLEAR REGULATORY COMMISSION

10 CFR Parts 170 and 171

RIN 3150-AH61

Revision of Fee Schedules; Fee Recovery for FY 2005

Correction

In rule document 05-10062 beginning on page 30526 in the issue of Thursday, May 26, 2005, make the following correction:

On page 30552, at the bottom of the page, in the first column, delete the first “(e) The activities comprising the surcharge are as follows: (1) LLW disposal generic activities;”.

[FR Doc. C5-10062 Filed 8-8-05; 8:45 am]

BILLING CODE 1505-01-D